DEPARTMENT OF HOMELAND SECURITY

Coast Guard

33 CFR Part 100

[Docket No. USCG-2021-0217]

Special Local Regulations for Marine Events; Blessing of the Fleet, Tiburon, CA

AGENCY: Coast Guard, Department of Homeland Security (DHS).

ACTION: Notice of enforcement of regulation.

SUMMARY: The Coast Guard will enforce the special local regulations for the annual Blessing of the Fleet Boat Parade on April 25, 2021 to provide for the safety of life on the navigable waters of Raccoon Strait during this event. Our regulation for marine events in Northern California identifies the regulated area for this event in Raccoon Strait near Tiburon, CA. During the enforcement period, unauthorized persons or vessels are prohibited from entering into, transiting through, or anchoring in the regulated area, unless authorized by the Patrol Commander (PATCOM) or other Federal, State, or local law enforcement agencies on scene to assist the Coast Guard in enforcing the regulated area.

DATES: The regulations in 33 CFR 100.1103 will be enforced for the Blessing of the Fleet regulated area listed in item number 1 in Table 1 to § 100.1103 from 8:30 a.m. to 1:30 p.m. on April 25, 2021.

FOR FURTHER INFORMATION CONTACT: If you have questions about this notice of enforcement, call or email Petty Officer David Robey, Waterways Management, U.S. Coast Guard; telephone (415) 399-7440, email SFWaterways@uscg.mil.

SUPPLEMENTARY INFORMATION: The Coast Guard will enforce the special local regulation in 33 CFR 100.1103, Table 1 to § 100.1103, item number 1 for the Blessing of the Fleet regulated area from 8:30 a.m. to 1:30 p.m. on April 25, 2021. This action is being taken to provide for the safety of life on navigable waterways during this event. Our regulation for marine events within Northern California, Table 1 to § 100.1103, item number 1, specifies the location of the regulated area for the Blessing of the Fleet which will occur in Raccoon Strait in the San Francisco Bay. From 8:30 a.m. to 1:30 p.m. on April 25, 2021 the regulated area will be in effect and is defined as the navigable waters, from surface to bottom, between a line drawn from Bluff Point on the southeastern side of Tiburon Peninsula to Point Campbell on the northern edge of Angel Island, and a line drawn from Peninsula Point on the southern edge of Tiburon Peninsula to Point Stuart on the western edge of Angel Island. This notice of enforcement applies to the entire regulated area.

During the enforcement period, under the provisions of 33 CFR 100.1103(b) if you are the operator of a vessel in the regulated area you must comply with directions from the Patrol Commander or other Official Patrol, defined as a Federal, State, or local law enforcement agency on scene to assist the Coast Guard in enforcing the regulated area. During the enforcement period, if you are the operator of a vessel that participates in the regulated area, you must follow the parade route determined by the marine event sponsor and comply with directions from the Patrol Commander or other Official Patrol.

In addition to this notice of enforcement in the Federal Register, the Coast Guard plans to provide notification of this enforcement period via the Local Notice to Mariners.

If the Captain of the Port determines that the regulated area need not be enforced for the full duration stated in this notice of enforcement, a Broadcast Notice to Mariners may be used to grant general permission to enter the regulated area.

Dated: April 15, 2021.
Marie B. Byrd,
Captain, U.S. Coast Guard, Captain of the Port, San Francisco.

[FR Doc. 2021-08210 Filed 4-20-21; 8:45 am]

BILLING CODE 9110-04-P